DEPARTMENT OF THE INTERIOR

Bureau of Land Management

[NV-952-04-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: David J. Clark, Acting Chief, Branch of Geographic Sciences, Bureau of Land Management (BLM), Nevada State Office, 1340 Financial Blvd., P.O. Box 12000, Reno, Nevada 89520, (775) 861-6541.

SUPPLEMENTARY INFORMATION: 1. The Supplemental Plat of the following described lands was officially filed at the Nevada State Office, Reno, Nevada, on October 16, 2003:

The supplemental plat, showing a subdivision of lot 9, sec. 16, T. 1 S., R. 35 E., Mount Diablo Meridian, Nevada, was accepted October 14, 2003.

This plat was prepared to meet certain administrative needs of the Bureau of Land Management.

2. The Supplemental Plat of the following described lands was officially filed at the Nevada State Office, Reno, Nevada, on October 23, 2003:

The supplemental plat, showing a subdivision of original lot 1, sec. 36, T. 3 S., R. 35 E., Mount Diablo Meridian, Nevada, was accepted October 21, 2003.

This survey was executed to meet certain administrative needs of the Bureau of Land Management.

3. The Supplemental Plats of the following described lands were officially filed at the Nevada State Office, Reno, Nevada, on November 13, 2003:

The supplemental plat, showing a subdivision of lots 8, 9, 11, 20 and 31, sec. 6, T. 20 S., R. 60 E., Mount Diablo Meridian, Nevada, was accepted November 12, 2003.

The supplemental plat, showing a subdivision of lots 27 and 29, sec. 33, T. 22 S., R. 61 E., Mount Diablo Meridian, Nevada, was accepted November 12, 2003.

These supplemental plats were prepared to meet certain administrative needs of the Bureau of Land Management.

4. The Supplemental Plats of the following described lands were officially filed at the Nevada State Office, Reno, Nevada, on February 26, 2004:

The supplemental plat, showing a subdivision of sec. 12, T. 19 S., R. 59 E., Mount Diablo Meridian, Nevada, was accepted February 24, 2004.

The supplemental plat, showing a subdivision of the N½ and the SE¼ of sec. 6, T. 19 S., R. 60 E., Mount Diablo Meridian, Nevada, was accepted February 24, 2004.

These supplemental plats were prepared to meet certain administrative needs of the Bureau of Land Management.

5. The above-listed surveys are now the basic record for describing the lands for all authorized purposes. These surveys have been placed in the open files in the BLM Nevada State Office and are available to the public as a matter of information. Copies of the surveys and related field notes may be furnished to the public upon payment of the appropriate fees.

Dated: March 26, 2004.
David J. Clark,
Acting Chief Cadastral Surveyor, Nevada.

[FR Doc. 04-7451 Filed 4-1-04; 8:45 am]

BILLING CODE 4310-HC-P